DEPARTMENT OF JUSTICE

Notice of Lodging of Proposed Second Agreement and Order Regarding Modification of the Consent Decree With Respect to TESI Under the Clean Water Act

On August 17, 2022, the Department of Justice lodged a proposed Second Agreement and Order Regarding Modification of the Consent Decree with Respect to TESI (“the Second Consent Decree Modification”) with the United States District Court for the Western District of Louisiana in the lawsuit entitled United States and Louisiana v. Acadia Woods Add. #2 Sewer Co., et al., Civil Action No. 6:98-0687.

In its Second Amended Complaint, the United States alleged claims related to violations of the Clean Water Act and applicable discharge permits at sewage treatment plants in Louisiana owned and operated by Johnson Properties, Inc. and its subsidiaries. Subsequently, the sewage treatment plants were sold to Intervening Defendant Total Environmental Solutions, Inc. (“TESI”). The United States, Louisiana, and TESI agreed to the Consent Decree with Respect to TESI (“the Original Consent Decree”) which was entered by the Court on December 21, 2000. In the Original Consent Decree, TESI committed to operate the sewage treatment plants without service interruption and implement compliance measures intended to cause the sewage treatment plants to achieve compliance with the requirements of the CWA and the applicable discharge permits.

The court entered a modification of the Consent Decree on May 18, 2017 (the First Consent Decree Modification) that required TESI to achieve compliance with the requirements of the Clean Water Act and the applicable discharge permits by implementing additional compliance measures. The First Consent Decree Modification also specified procedures and a schedule pursuant to which TESI, after it implemented the additional compliance measures, could request removal of sewage treatment plants from the Consent Decree. Finally, the First Consent Decree Modification revised the stipulated penalty provisions.

The proposed Second Consent Decree Modification provides for the transfer of sewage treatment plants that remain subject to the Consent Decree to Magnolia Water Utility Operating Company, LLC (“Magnolia”) which would be substituted for TESI as Intervening Defendant. The proposed Second Consent Decree Modification would also modify the schedule to provide Magnolia additional time to complete that the work required by the modified Consent Decree, modify some of the injunctive relief requirements for the sewage treatment plants that remain subject to the Consent Decree, and reduce stipulated penalties during the initial six months of Magnolia's operations.

The publication of this notice opens a period for public comment on the Second Consent Decree Modification. Comments should be addressed to the Assistant Attorney General, Environment and Natural Resources Division, and should refer to United States and Louisiana v. Acadia Woods Add. #2 Sewer Co., et al., D.J. Ref. No.90-5-1-1-4375. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611,Washington, DC 20044-7611.

During the public comment period, the Second Consent Decree Modification may be examined and downloaded at this Justice Department website: https://www.justice.gov/enrd/consent-decrees. We will provide a paper copy of the Second Consent Decree Modification upon written request and payment of reproduction costs. Please mail your request and payment to: Consent Decree Library, U.S. DOJ—ENRD, P.O. Box 7611, Washington, DC 20044-7611.

Please enclose a check or money order for $13.00 (25 cents per page reproduction cost) payable to the United States Treasury.

Thomas Carroll,
Assistant Section Chief, Environmental Enforcement Section, Environment and Natural Resources Division.

[FR Doc. 2022-18291 Filed 8-24-22; 8:45 am]

BILLING CODE 4410-15-P